DEPARTMENT OF HOMELAND SECURITY

Coast Guard

33 CFR Part 151

[Docket No. USCG-2012-0924]

RIN 1625-AB68

Ballast Water Management Reporting and Recordkeeping

AGENCY: Coast Guard, DHS.

ACTION: Final rule.

SUMMARY: This final rule amends the Coast Guard's ballast water management reporting and recordkeeping requirements. Upon the effective date of this rule, the Coast Guard will require vessels with ballast tanks operating exclusively on voyages between ports or places within a single Captain of the Port Zone to submit an annual report of their ballast water management practices. This rule also simplifies and streamlines the ballast water report form. Finally, this rule will allow most vessels to submit ballast water reports after arrival at a port or place of destination, instead of requiring submission of such reports prior to arrival. This rule will reduce the administrative burden on the regulated population, while still providing the Coast Guard with the information necessary to analyze and understand ballast water management practices.

DATES: This final rule is effective February 22, 2016, except for the amendments to 33 CFR 151.2060(b) through (f) and 151.2070, which contain collection of information requirements that have not yet been approved by the Office of Management and Budget (OMB). The Coast Guard will publish a document in the Federal Register announcing the effective date of those sections.

ADDRESSES: Comments and material received from the public, as well as documents mentioned in this preamble as being available in the docket, are part of docket USCG-2012-0924 and are available on the Internet by going to http://www.regulations.gov, inserting USCG-2010-0924 in the “Keyword” box, and then clicking “Search.”

FOR FURTHER INFORMATION CONTACT: If you have questions on this rule, call or email Ms. Regina Bergner, Environmental Standards Division (CG-OES-3), Coast Guard; telephone 202-372-1431, email Regina.R.Bergner@uscg.mil.

SUPPLEMENTARY INFORMATION:

Table of Contents for Preamble

I. Abbreviations

II. Background

III. Basis and Purpose

A. Legal Authority

B. Purposes of This Regulatory Action

IV. Regulatory History

V. Discussion of NPRM Comments and Changes

A. Three Year Annual Reporting Requirement for Vessels Operating Exclusively Within a Single COTP Zone

B. Revisions to the Ballast Water Reporting Form

C. Timing of Report Submission

D. Other Comments and Changes

VI. Regulatory Analyses

A. Regulatory Planning and Review

1. Require Vessels Operating in One COTP Zone To Report BWM Practices

2. Update Current Ballast Water Report Requirements (33 CFR 151.2070)

3. Allow Vessels To Submit Ballast Water Reports After Arrival to the Port or Place of Destination

4. Change the Format of Electronic Reports

5. Summary of Economic Impacts of Final Rule

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

BWM Ballast Water Management

CFR Code of Federal Regulations

COTP Captain of the Port

EPA Environmental Protection Agency

EEZ Exclusive Economic Zone

FR Federal Register

IMO International Maritime Organization

MISLE Marine Information for Safety and Law Enforcement

NANPCA Non-Indigenous Aquatic Nuisance Prevention and Control Act of 1990

NBIC National Ballast Information Clearinghouse

NISA National Invasive Species Act of 1996

OMB Office of Management and Budget

Pub. L. Public Law

RFA Regulatory Flexibility Act

SANS Ship Arrival Notification System

U.S.C. United States Code

II. Background

A vessel brings water into its ballast tanks to control or maintain trim, draft, stability or stress of the vessel when it is fully or partially empty of cargo. Generally, the vessel will discharge ballast water when it loads cargo, often at another port of call. Vessels discharge more than 80 million tons of ballast water annually into U.S. waters.¹

¹ See the American Association of Port Authorities Web site at http://www.aapa-ports.org/Issues/USGovRelDetail.cfm?itemnumber=880.

Many invasive species have been introduced into U.S. waters through ballast water discharge because ballast water often contains organisms indigenous to the area where it was loaded. These organisms can become invasive species when they are discharged in a new location, often with damaging results.²

² For a list of examples of aquatic bio-invasions causing major impact internationally, see the International Maritime Organization's Web site at: http://www.imo.org/OurWork/Environment/BallastWaterManagement/Pages/AquaticInvasiveSpecies(AIS).aspx.

The Great Lakes provide many examples of the damage invasive species can inflict on an environment. According to the U.S. Environmental Protection Agency (EPA),³ no fewer than 25 invasive species of fish have entered the Great Lakes. Invasive filter-feeders such as zebra mussels have caused severe problems at power plants and municipal water supplies, clogging intake screens, pipes, and cooling systems. Fast-growing invasive plants have displaced native plant populations that support wildlife habitat and prevent erosion. The prevalence of these invasive plant species has also hindered commercial and recreational activities. Similar problems with invasive species have occurred in U.S. waters throughout the country.⁴

³ See the EPA's Web site at http://www.epa.gov/glnpo/invasive.

⁴ The U.S. Geological Survey maintains an online database of non-indigenous aquatic species at http://nas.er.usgs.gov. The database is searchable by several variables, including by state and species.

III. Basis and Purpose

A. Legal Authority

The Non-Indigenous Aquatic Nuisance Prevention and Control Act of 1990 (NANPCA, Pub. L. 101-646), as amended by the National Invasive Species Act of 1996 (NISA), (Pub. L. 104-332), requires the Secretary of Homeland Security (Secretary) to ensure, to the maximum extent practicable, that aquatic nuisance species are not discharged into U.S. waters from vessels (16 U.S.C. 4701 et seq.). These statutes also direct the Secretary to issue regulations and collect records regarding vessel ballasting practices as a means for determining vessel compliance with the ballast water management (BWM) program (16 U.S.C. 4711(c) and (f)).

The Secretary has delegated the regulatory functions and authorities in 16 U.S.C. 4711 to the Commandant of the Coast Guard (Department of Homeland Security Delegation No. 0170.1 (II.) 57). Coast Guard regulations regarding BWM are located in 33 CFR part 151, subparts C and D. With limited exceptions, these regulations apply to all vessels, U.S. and foreign, equipped with ballast tanks, that operate in U.S. waters. (see 33 CFR 151.2005, 151.2010, 151.2015, and 151.2025).

This final rule revises the regulatory provisions that deal with BWM reporting and recordkeeping requirements. A full discussion of the statutory and regulatory history of the Coast Guard's broader actions to implement both NANPCA and NISA may be found in the preamble to the final rule entitled “Standards for Living Organisms in Ships' Ballast Water Discharged in U.S. Waters,” published on March 23, 2012 (77 FR 17254).

B. Purposes of This Regulatory Action

This regulatory action implements provisions of NANPCA and NISA by requiring the collection of records on vessel BWM practices. The Coast Guard will now require vessels with ballast tanks operating exclusively on voyages between ports or places within a single Captain of the Port (COTP) Zone to submit an annual report of their BWM practices. This rule also allows most vessels to submit ballast water reports after arrival at a port or place of destination, instead of requiring submission of such reports prior to arrival. Additionally, this rule simplifies and streamlines the ballast water report form. This rule will reduce reporting redundancies affecting the regulated population, while still providing the Coast Guard with the information necessary to analyze and understand BWM practices. By doing so, this rule is intended to improve the Coast Guard's knowledge about such practices, which will enable us to reduce the discharge of aquatic nuisance species into U.S. waters from vessels and to reduce future damage caused by such discharges.

Efficient and effective BWM data collection is essential to the Coast Guard's ability to evaluate the availability of BWM technologies for the range of vessels operating in waters of the U.S. These important data directly inform the Coast Guard's decision making efforts to ensure, to the maximum extent practicable, that aquatic nuisance species are not discharged into waters of the U.S.

IV. Regulatory History

On June 5, 2013, the Coast Guard published a notice of proposed rulemaking (NPRM) entitled “Ballast Water Management Reporting and Recordkeeping” in the Federal Register (78 FR 33774). No public meeting was requested for this rulemaking and none was held. A summary of the proposals in the NPRM is provided below.

The Coast Guard proposed a three-year requirement applicable to vessels equipped with ballast tanks and operating exclusively on voyages between ports and places within a single COTP Zone to submit an annual summary report of their BWM practices. Historically, the Coast Guard has not collected extensive information about the BWM practices of this segment of the vessel population because it seemed unlikely that vessels operating within a single COTP Zone would introduce invasive species from place to place within the COTP Zone. Public comments received in response to the most recent Coast Guard rulemaking on ballast water ⁵ correctly indicated that COTP Zones are administrative in nature, and are not established based on any ecological or biological bases. Therefore, COTP Zones may not necessarily be appropriate boundaries for assessing invasive species. The Coast Guard proposed this new three-year annual reporting requirement to improve the breadth and quality of BWM data so it can make the most informed programmatic and regulatory decisions. Additionally, collecting this information advances the Coast Guard's efforts to meet the statutory requirement to maintain a clearinghouse of national ballast water data (16 U.S.C. 4712(f)).

⁵ Notice of proposed rulemaking entitled “Standards for Living Organisms in Ships' Ballast Water Discharged in U.S. Waters” (74 FR 44632; August 28, 2009). The docket for that rulemaking is available for viewing online at www.regulations.gov, Docket Number USCG-2001-10486.

The Coast Guard also proposed to simplify ballast water reporting for all vessels by revising the report form and encouraging electronic report submission. We proposed to streamline the reporting process and to revise the report to include only data that are essential to understanding and analyzing BWM practices.

Finally, the Coast Guard proposed to allow vessels bound for a port or destination outside of the Great Lakes or the Hudson River north of the George Washington Bridge to submit ballast water reports either no later than six hours after arrival, or prior to departure, whichever is earlier. Prior to this rulemaking, the regulations required certain vessels to submit ballast water reports before arriving at the port or destination. As a practical matter, vessels often discovered information after arrival that necessitated amending the reports. Accordingly, the Coast Guard proposed the change in submission requirements to reduce the need for amended reports.

V. Discussion of NPRM Comments and Changes

In response to the NPRM, the Coast Guard received 6 public comment letters containing a total of 13 separate comments. The comments are available for viewing in the public docket for this rulemaking, where indicated above under ADDRESSES.

This section contains a description of each comment, followed by the Coast Guard's response. Since several of the letters raised similar issues, this section is organized by comment topic. Except for the changes identified in this section, the Coast Guard adopts the regulations as proposed in the NPRM without change.

A. Three-Year Annual Reporting Requirement for Vessels Operating Exclusively Within a Single COTP Zone

One commenter supported the proposal to require vessels operating within a single COTP zone to submit annual reports for three years. The commenter stated that annual reporting would provide data that is useful to the Coast Guard for making regulatory decisions affecting these vessels. The Coast Guard agrees.

One commenter opposed the proposal to require vessels operating within a single COTP zone to submit annual reports, arguing that the burden of the reporting requirement is not justified due to the low risk of introduction of aquatic invasive species within a single COTP zone. The Coast Guard disagrees. An annual report, limited to three years, presents a minimal burden, but will provide the essential data for the Coast Guard to determine whether vessels that operate solely in a single COTP zone should be subject to the same or similar BWM regulations as those applicable to vessels operating in multiple COTP zones.

The commenter also suggested the Coast Guard could obtain all necessary ballast water operation information from advisory committees and trade associations instead of introducing new reporting requirements. The Coast Guard disagrees. Data from such sources would be limited because not all vessel owners and operators are members of trade associations or represented in advisory committee studies. Furthermore, reports to such trade associations and advisory committees would be voluntary instead of legally required, which would limit the amount of data. For these reasons, a streamlined, annual report is the more effective approach for collecting accurate data.

B. Revisions to the Ballast Water Reporting Form

Two commenters supported the Coast Guard's proposal to streamline and simplify the ballast water reporting form. In this final rule, the Coast Guard is taking an additional step to simplify the regulations in §§ 151.2060 (Reporting requirements) and 151.2070 (Recordkeeping requirements). The Coast Guard intends to align the information required for reporting and recordkeeping purposes as much as possible because the information required to satisfy both requirements is almost identical. The NPRM, however, listed the information required for reporting purposes under § 151.2060, and separately listed similar information required for recordkeeping purposes in § 151.2070. Upon further review of the NPRM, the Coast Guard wishes to avoid any confusion or misunderstanding regarding the lists of information required for reporting and recordkeeping. Specifically, the Coast Guard wishes to avoid a misunderstanding that there is one set of information required under § 151.2060 for reporting purposes, and a separate set of information required under § 151.2070 for recordkeeping purposes. Accordingly, for regulatory clarity, this final rule now lists the information required for reporting purposes in § 151.2060. Instead of repeating that list of information for recordkeeping, § 151.2070(a) simply states that there is a requirement to maintain records of all the information required to be reported under § 151.2060. Also in § 151.2070, there is an additional recordkeeping requirement regarding sediment discharge. Sediment discharge is the one data point which is subject to the recordkeeping requirement, but is not subject to the reporting requirement.

Another commenter requested an additional change to the form that would enable a reporting officer to sign the form electronically. The Coast Guard is granting this request. Ballast water reporting forms are submitted to the National Ballast Information Clearinghouse (NBIC) using any of the methods on the NBIC Web site.⁶ Reporters may complete the form by filling out the fields on NBIC's online click-thru web-based version of the form. At the end of the web-based form, reporters will be asked to electronically certify the accuracy of the information provided. This certification satisfies the Coast Guard's signature requirement in § 151.2070 for recordkeeping purposes.

⁶ Forms are submitted through NBIC's Web site at http://invasions.si.edu/nbic/submit.html.

One commenter requested an additional change to the form that would enable reporters to highlight an entire column and fill it out with one entry that stays constant (or near-constant) throughout the body of the report. The Coast Guard wishes to clarify that while we manage the content of the form, NBIC manages the functionality of the form. The Coast Guard communicated the commenter's request to NBIC for its consideration. NBIC advised against the commenter's request, noting that it implemented this option into an earlier test version of the form and found that it resulted in too many errors. Specifically, the ease of use of auto-fill columns was outweighed by the tendency of reporters to not enter data in these columns accurately. As form technology evolves, NBIC will consider adding an auto-fill function pending availability of a system that is better at identifying and eliminating errors.

One commenter requested that the Coast Guard continue to allow all vessel operators the choice of reporting ballast water capacities and discharge volumes in gallons or metric tons. The Coast Guard communicated the commenter's request to NBIC for its consideration. NBIC has agreed to change the form to include a drop-down menu that enables reporters to choose gallons or cubic meters as their preferred unit of measurement. Because the form will now allow reporters to choose which volumetric unit to use, we have removed the specific reference to cubic meters from the regulatory text in 33 CFR 151.2060.

One commenter noted that the form requires reporters to provide the vessel's International Maritime Organization (IMO) number, though many U.S.-flagged vessels are not issued IMO numbers. The commenter recommended an amendment to the form to specify another acceptable identification number for such vessels. In response, the Ballast Water Reporting form will be updated to offer an option for inputting either the IMO number or other documentation number.

C. Timing of Report Submission

Three commenters supported the Coast Guard's proposal to allow vessels to submit ballast water reports after arrival at a port or place of destination. The Coast Guard adopts the proposal without change. For purposes of clarity, we note that Coast Guard regulations in 33 CFR 151.2005 define the phrase “[p]ort or place of destination” to mean “. . . any port or place to which a vessel is bound to anchor or moor.” The Coast Guard provides further guidance on the practical application of the phrase “port or place of destination” for ballast water reporting purposes in Navigation and Vessel Inspection Circular NVIC 07-04, Change 1 (Oct. 29, 2004).⁷ For example, for barges equipped with ballast tanks, reports must be submitted only for stops where cargo operations are conducted. For towing vessels equipped with ballast tanks, reports must be submitted when the vessel conducts fueling operations. In both cases, reports are not required when the vessel stops for fleeting, waits for locks, or purposes other than cargo or fueling operations.

⁷ NVIC 07-04 may be viewed online at: http://www.uscg.mil/hq/cg5/nvic/pdf/2004/NVIC_07-04_CH-1.pdf.

One commenter requested a change to the regulations to emphasize that vessels operating on the Great Lakes are covered under the new provision permitting report submission within six hours after arrival at a port or place of destination. While the Coast Guard agrees that the vessels in question are covered under this provision, we are not granting the commenter's request to change the regulatory text because the language in 33 CFR 151.2060 is sufficiently clear on this point, and it is unnecessary to add specific language solely for Great Lakes vessels.

One commenter suggested 2 alternatives for when the 6-hour post-arrival submission window should start in order to further reduce the need for amended reports. The commenter suggested that the 6-hour window should start when the vessel's cargo operations commence, even if this is some time after the vessel arrives at berth. Alternatively, the commenter suggested that the 6-hour window should start when the vessel arrives at berth. The Coast Guard rejects the commenter's preferred approach because it would mean different timing for different vessels, causing inconsistency in applying and enforcing the 6-hour submission window. Regarding the commenter's alternative approach, the Coast Guard expects that the 6-hour submission window starting upon arrival at the “port or place of destination” as discussed above will give the vessel crew ample time to submit an accurate ballast water report, without the need for an amended report in most instances. The Coast Guard will, however, continue to enable vessels to submit an amended report when necessary.

D. Other Comments and Changes

One commenter requested that the Coast Guard provide a definition of the term “trip” for reporting purposes on operations exclusively within a single COTP Zone. We agree that the term “trip” is ambiguous. To clarify, the Coast Guard is not seeking reported information on each and every vessel movement. Instead, we are seeking reported information on the number of ballast water discharges, if any. The Coast Guard has modified the regulatory text by removing the term “trip” to more clearly reflect the Coast Guard's intention.

Two commenters questioned the utility of BWM data to the Coast Guard, and requested that we consider eliminating BWM reporting and recordkeeping requirements altogether. For the reasons discussed below, the Coast Guard cannot grant this request.

The Coast Guard requires vessels to report and to maintain records of BWM practices and activities pursuant to a statutory mandate (16 U.S.C. 4711(f)). More specifically, this information enables us to assess the rate of effective compliance with established BWM requirements and guidelines. The information provides important data on volumes of ballast water discharged by different types of vessels, patterns of ballast water transport (i.e., locations where ballast water is loaded and discharged), patterns of BWM by different types of vessels, and safety and practicability issues that affect the ability of different types of vessels to implement specific BWM practices.

Additionally, the Coast Guard uses the reported information to track patterns of BWM and delivery in the U.S. over time. These data provide information on the relative amounts of ballast water that different types of vessels must manage, as well as the circumstances (e.g., voyage lengths and routes) that necessitate BWM. These data are also essential in evaluating the availability of BWM technologies for the range of vessels operating in waters of the U.S. These important data directly inform the Coast Guard's decision making efforts to ensure, to the maximum extent practicable, that aquatic nuisance species are not discharged into waters of the U.S.

One commenter questioned whether this rulemaking applies to vessels that operate outside of U.S. waters (i.e., beyond 12 nautical miles of shore), but still within the Exclusive Economic Zone (EEZ), which generally extends 200 nautical miles from the territorial sea baseline.⁸ The Coast Guard confirms that this rulemaking does not apply to vessels operating exclusively outside of U.S. waters. In accordance with the applicability provision in 33 CFR 151.2010, this rulemaking “applies to all non-recreational vessels, U.S. and foreign, that are equipped with ballast tanks and operate in the waters of the United States, except as expressly provided in § 151.2015 or § 151.2020 of [33 CFR part 151 subpart D].”

⁸ See 33 CFR 2.30.

Two commenters requested exemptions from the ballast water reporting requirements for certain vessels, including those that do not discharge ballast water from their tanks and those that use potable water for ballast. The Coast Guard is not granting these requests for blanket exemptions. The controlling statutory provisions in 46 U.S.C. 4711(c) and (f) require the Coast Guard to apply these regulations to “. . . all vessels equipped with ballast water tanks that operate in the waters of the United States.” It is the presence of a ballast water tank that triggers the applicable reporting requirement, not the discharge of ballast water. When a vessel is equipped with a ballast water tank, the non-discharge of ballast water or the use of potable water for ballast is a BWM practice, and the reporting requirement provides useful information regarding the effectiveness of these measures in preventing the introduction or spread of invasive species. The purpose of the reported information is to assist the Coast Guard in evaluating BWM practices in general, regardless of whether a vessel discharges ballast water. However, we remind owners and operators that 33 CFR 151.2065 provides relief under certain circumstances (i.e., where compliance with 33 CFR 151.2060 is economically or physically impractical) to submit a request for the Coast Guard to approve an alternative equivalent reporting method.

We are revising the text in 33 CFR 151.2015 in several places to refer to a “single” COTP zone instead of “one” COTP zone for clarity and consistency with the rest of that section. Additionally, we are revising the text in 33 CFR 151.2060(b)(1)(ii) to reflect the accurate name of the “St. Lawrence Seaway Ballast Water Reporting Form.” These are non-substantive technical changes.

VI. Regulatory Analyses

We developed this final rule after considering numerous statutes and executive orders related to rulemaking. Below, we summarize our analyses based on these statutes or executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

This final rule has not been designated a “significant regulatory action” under section 3(f) of Executive Order 12866, “Regulatory Planning and Review,” as supplemented by Executive Order 13563, “Improving Regulation and Regulatory Review,” and does not require an assessment of potential costs and benefits under section 6(a)(3) of that Order. Accordingly, the final rule has not been reviewed by the Office of Management and Budget (OMB).

We received no public comments that affect the Regulatory Assessment (RA); nor have we identified any new information or data that would require us to reassess the RA in the NPRM. We, therefore, adopt the NPRM's Regulatory Assessment as the final assessment to this final rule. A final Regulatory Assessment is provided as follows:

Table 1 presents a summary of the economic impact of this final rule. A detailed description of the estimates is presented in the next sections.

Table 1—Summary of Regulatory Economic Impacts
Changes | Description | Affected population | Costs (7% discount rate): Annualized | Costs (7% discount rate): Total | Benefits
1. Require vessels operating exclusively on voyages between ports and places within a single COTP Zone to report BWM practices | Owners or operators of vessels with ballast tanks and operating exclusively on voyages between ports or places within a single COTP Zone would be required to submit an annual summary of their BWM practices. This information collection requirement would be for a 3 year period | 400 owners or operators of 1,280 vessels operating in a single COTP Zone | $22,110 | $155,292 | Improve the breadth and quality of BWM data, enabling the Coast Guard and others to make the most informed programmatic and regulatory actions to prevent non-indigenous species invasions in U.S. waters.
2. Update current ballast water report requirements | Update current ballast water report. Vessels already complying with 33 CFR 151.2070 requirements would not incur additional burden due to the updates | Vessels currently reporting BWM activities under 33 CFR 151.2070 | $0 | $0 | Concise reporting and inclusion of only essential data on BWM practices.
3. Allow vessel owners or operators to submit ballast water reports after arrival to the port or place of destination | Currently, vessels are required to submit reports 24 hours prior to arrival. Allowing vessels to report after arrival—when their ballasting activities are complete—should greatly reduce the need for post-arrival amendments | Vessels currently reporting BWM activities under 33 CFR 151.2070 | ($184,868) Cost savings | ($1,298,437) Cost savings | Reduce the administrative burden on the regulated population. We estimate that this final rule will eliminate an average of 10,717 post-arrival reports per year.
4. Change the format of electronic report. | Standardize the data format and add pull down menus to reduce data entry errors. | Vessels currently reporting BWM activities under 33 CFR 151.2070 | $0 | $0 | Facilitate electronic report submission and improve efficiency in data handling and analysis.

This final rule would modify and amend the following recordkeeping requirements and procedures:

1. Require Vessels Operating in a Single COTP Zone To Report BWM Practices

In this final rule, the Coast Guard requires owners or operators of vessels with ballast tanks operating exclusively on voyages between ports or places within a single COTP Zone to submit an annual summary report of their BWM practices for a period of 3 years.

Based on data from the Coast Guard Marine Information for Safety and Law Enforcement (MISLE) and the Ship Arrival Notification System (SANS), we estimate that the final rule will have an annual affect on 1,280 U.S.-flagged vessels that operate exclusively between ports or places within a single COTP Zone. Table 2 presents the vessel types affected by this requirement. These vessels are currently exempt from the ballast water reporting requirements under 33 CFR 151.2070. Owners or operators of these vessels will be required to submit an annual summary report of their BWM practices to the Coast Guard for a period of 3 years.

⁹ Includes permanently moored vessels, school ships, and vessels with unspecified vessel type.

Table 2—U.S. Flag Vessels Operating Exclusively Between Ports or Places Within a Single COTP Zone
Vessel type | Affected population
Commercial Fishing Vessel | 117
Fish Processing Vessel | 4
Freight Ship | 117
Industrial Vessel | 28
Mobile Offshore Drilling Unit | 5
Offshore Supply Vessel | 175
Oil Recovery | 6
Passenger (inspected) | 154
Passenger (uninspected) | 3
Research Vessel | 11
Tank Ship | 29
Towing Vessel | 604
Other Vessels ⁹ | 27
Total | 1,280
Source: MISLE and SANS data.

For the purposes of the cost analysis, we assume that all vessels discharge ballast water. We estimate the total annual burden hours required to complete the report will be approximately 40 minutes per vessel per year. We anticipate vessel owners or operators will need 15 minutes to complete and submit their annual ballasting report. Most of the information required is well known by the vessel owner or operator and does not require additional document consultation. The information that does not require additional document consultation includes: Vessel name, identification number, type, operator, tonnage, call sign, COTP Zone of operation, number of ballast water tanks, total ballast water capacity, and primary port of ballast water loading and discharge.

The remaining 25 minutes accounts for the total time allocated (over the entire year) for vessel operators to assemble and review information to determine the number of times ballast water is discharged and the volume of discharge released during such vessel operations. We also recognize that vessels that do not discharge ballast water will only be burdened with the 15 minutes to fill out and submit the annual form.

We assume that the vessel owner or operator, with an estimated wage rate of $69/hr ¹⁰, will be in charge of this reporting. The annual cost per vessel is $46.23 (.67 hrs × $69/hr) and the total cost per vessel for the 3-year period is $139. The estimated annual cost of the new reporting requirement for the 1,280 vessels, operating exclusively between ports or places within a single COTP Zone, is, $59,174 (1,280 vessels × .67 hrs × $69 hr) (undiscounted). The total cost for a 3-year reporting period is $177,522 (undiscounted) or $155,291 (at seven percent discount rate). Table 3 presents the reporting costs for vessels operating exclusively between ports or places within a single COTP Zone.

¹⁰ Fully loaded wage rate for GS-12 (equivalent) out-of-govt., obtained from Enclosure (2) to COMDTINST 7310.1M and validated based on the Bureau of Labor Statistics (BLS) subcategory Managers (Occupation Code 11-9199) using a base average form years 2010-2011 data and a load factor of 1.4.

¹¹ The Coast Guard anticipates the information collection requirement would lapse after the completion of 3 years.

Table 3—Annual and Total Cost of Reporting (in US$) for Vessels Operating Exclusively Between Ports or Places Within a Single COTP Zone
Year ¹¹ | Cost: Undiscounted | Cost: At 7 percent discount rate | Cost: At 3 percent discount rate
1 | $59,174 | $55,303 | $57,450
2 | 59,174 | 51,685 | 55,777
3 | 59,174 | 48,304 | 54,153
4-10 | 0 | 0 | 0
Total | 177,523 | 155,292 | 167,380
Annualized |  | 22,110 | 19,622

This final rule will collect information on ballast water operations from vessels operating exclusively between ports or places within a single COTP Zone, a segment of the industry for which the Coast Guard has limited information. Therefore, the Coast Guard seeks to improve the breadth and quality of its BWM data so it can make the most informed programmatic and regulatory decisions.

The Coast Guard considered several alternatives for collecting the needed information on the ballast practices for vessels operating exclusively between ports or places within a single COTP Zone. One alternative would require these vessels to complete a full ballast water reporting form (33 CFR 151.2060) upon each entry into port, similar to existing requirements for other vessels operating outside a single COTP Zone. The Coast Guard instead chose the alternative that requires only an annual summary report of ballast activities with a limited number of required data elements. The Coast Guard will also collect this data for only 3 years. The Coast Guard believes that the annual summary report for 3 years provides enough information to characterize BWM practices for vessels operating exclusively between ports or places within a single COTP Zone, while minimizing the reporting burden to these entities.

2. Update Current Ballast Water Report Requirements (33 CFR 151.2060)

The Coast Guard is updating the ballast water reporting form to make it more concise and include only essential data on BWM practices. Current recordkeeping requirements in 33 CFR 151.2070 are amended to include only data fields essential for understanding and analyzing BWM practices of vessels operating in waters of the U.S.

Vessel owners or operators who currently submit ballast water reports to comply with 33 CFR 151.2060 requirements will not incur additional burden due to the reporting updates. Updates to the report form will make questions more clear and concise. The most time consuming section of the report (section 5, “Ballast Water History”) will be restructured, but the content will be maintained. We do not expect that changes to the reporting form will affect the amount of burden time necessary to fill-out the form. Currently, vessels equipped with ballast water tanks bound for ports or places within the U.S. or those entering U.S. waters are required to submit a ballast water report. According to the Coast Guard's estimate in OMB collection of information Control Number 1625-0069, it takes approximately 40 minutes to complete and submit the report. The CFR at 33 CFR 151.2060 and 151.2070 presents detailed information on reporting and recordkeeping requirements.

In addition, updating the current reporting form will improve the utility of the data provided by the vessel population to the Coast Guard.

3. Allow Vessels To Submit Ballast Water Reports After Arrival to the Port or Place of Destination

Prior to this final rule, 33 CFR 151.2060 required vessels to predict their ballasting operations and submit reports on BWM 24 hours before arrival at port. Often, vessel owners and operators would revise their reports with the actual ballasting information and resubmit them to NBIC. NBIC estimates that approximately 40 percent of the amended reports it receives are due to the timing of the report submission. Allowing those vessels travelling from outside of the EEZ that are not bound for the Great Lakes or the Hudson River north of the George Washington Bridge to submit ballast water reports after arrival to the port or place of destination greatly reduces the need for amended reports. We estimate that an average of 10,717 reports ¹² are amended and resubmitted every year due to the timing of submission. We estimate that it would take the vessel owner or operator approximately 15 minutes to amend and resend the reports. Therefore, we expect that this amendment will result in an annual reduction of burden by approximately 2,679 hours (10,717 reports × 0.25 hours ¹³), representing a cost savings of $184,868 (2,679 hours × $69/hr ¹⁴) per year to the industry. The total cost savings (Table 4) that results from allowing report submittal after arrival at a port for a 10-year period is $1,298,437 (at 7 percent discount rate).

¹² The estimate is based on data provided by NBIC on superseded reports for 2006 to 2012.

¹³ Estimation based on time reported in the OMB 1625-0069 from vessel operators currently completing ballast water management reports to comply with 33 CFR 151.2070.

¹⁴ Wage rate obtained from Enclosure (2) to COMDTINST 7310.1M and validated based on the BLS subcategory Managers (Occupation Code 11-9199).

Table 4—Annual and Total Cost Savings of Changing the Time of the Report
Year | Cost savings: Undiscounted | Cost savings: At 7 percent discount rate | Cost savings: At 3 percent discount rate
1 | ($184,868) | ($172,774) | ($179,484)
2 | (184,868) | (161,471) | (174,256)
3 | (184,868) | (150,908) | (169,181)
4 | (184,868) | (141,035) | (164,253)
5 | (184,868) | (131,809) | (159,469)
6 | (184,868) | (123,186) | (154,824)
7 | (184,868) | (115,127) | (150,315)
8 | (184,868) | (107,595) | (145,937)
9 | (184,868) | (100,556) | (141,686)
10 | (184,868) | (93,978) | (137,559)
Total | (1,848,683) | (1,298,437) | (1,576,964)
Annualized |  | (184,868) | (184,868)

4. Change the Format of Electronic Reports

The Coast Guard expects reporting efficiency and data handling will improve by changing the format of the electronic report that can be found in Information Collection Request (ICR), OMB Control number 1625-0069. The Coast Guard will standardize the data formats and add pull down menus. Since the pull down menu will make the reporting form simpler and will reduce response variability, we do not anticipate any significant change in the reporting burden. These efficiencies will not result in cost savings. Therefore, we do not expect additional costs or cost savings to the industry. According to NBIC data from the past 6 years, approximately 99 percent of reports have been submitted electronically. Within the last 2 years, 100 percent of the reports have been submitted electronically. Standardized data entry will improve data quality and, as a result, data analyses will be easier and less time consuming.

5. Summary of Economic Impacts of Final Rule

This final rule will impact the industry for a limited time only (3 years). During this time, we estimate a total annual non-discounted cost savings of $125,694 and a total 10-year non-discounted cost savings of $1,671,160. We also estimate an annualized cost savings of $162,758, with a discounted ten-year saving of $1,443,145 both respectively discounted at 7 percent for a 10-year period of analysis. These estimates are developed and shown in Table 5.

Table 5—Annual and Total Economic Impact of Final Rule
[At 7 percent discount rate]
Year | 1. Report from vessels operating exclusively in a single COTP Zone (cost) | 2. Update current ballast water report | 3. Allow vessels to submit reports after arrival (cost savings) | 4. Require reports be submitted electronically | Economic impact of final rule
1 | $55,303 | $0 | ($172,774) | $0 | ($117,471)
2 | 51,685 | 0 | (161,471) | 0 | (109,786)
3 | 48,304 | 0 | (150,908) | 0 | (102,604)
4 |  | 0 | (141,035) | 0 | (141,035)
5 |  | 0 | (131,809) | 0 | (131,809)
6 |  | 0 | (123,186) | 0 | (123,186)
7 |  | 0 | (115,127) | 0 | (115,127)
8 |  | 0 | (107,595) | 0 | (107,595)
9 |  | 0 | (100,556) | 0 | (100,556)
10 |  | 0 | (93,978) | 0 | (93,978)
Total | 155,292 | 0 | (1,298,437) | 0 | (1,143,145)
Annualized | 22,110 | 0 | (184,868) | 0 | (162,758)
Note: Totals may not add due to rounding.

B. Small Entities

Under the Regulatory Flexibility Act (RFA) (5 U.S.C. 601-612), we have considered whether this final rule would have a significant economic impact on a substantial number of small entities. The term “small entities” comprises small businesses, not-for-profit organizations that are independently owned and operated and are not dominant in their fields, and governmental jurisdictions with populations of less than 50,000.

As described in the “Regulatory Analyses” section, we expect costs per vessel (an annual cost of $46.23 for a 3-year period) to owners or operators of vessels operating exclusively between ports or places within a single COTP Zone. Based on available data, we estimate that about 74 percent of entities affected by this final rule are small under the RFA and the Small Business Administration's size standards. The economic impact of the 3-year reporting requirement is less than 1 percent of revenue for 100 percent of the small entities. We determine that each entity, on average, manages a total of 3 vessels with an estimated annual cost of $139 (3 * $46.23) (non-discounted). We have estimated that for this rule to have a revenue impact of greater than 1 percent, total annual revenue for small entities must be less than $13,900. Therefore, we anticipate that this final rule will not have a significant economic impact on small entities. Through this final rule, the Coast Guard will obtain information on ballast water operations from a segment of the industry for which there is limited information, and improve the utility of the data provided to Coast Guard.

Owners and operators of applicable vessels already reporting BWM practices under 33 CFR 151.2060 would incur a cost savings as a result of the elimination of post-arrival amendments due to time of the reporting.

Therefore, the Coast Guard certifies that under 5 U.S.C. 605(b), this final rule will not have a significant economic impact on a substantial number of small entities.

C. Assistance for Small Entities

Under section 213(a) of the Small Business Regulatory Enforcement Fairness Act of 1996 (Pub. L. 104-121), we want to assist small entities in understanding this final rule so that they can better evaluate its effects on them and participate in the rulemaking. If the final rule would affect your small business, organization, or governmental jurisdiction and you have questions concerning its provisions or options for compliance, please consult Ms. Regina Bergner, Environmental Standards Division, U.S. Coast Guard (CG-OES-3); telephone 202-372-1431, email, Regina.r.bergner@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This final rule modifies an existing collection of information under the Paperwork Reduction Act of 1995 (44 U.S.C. 3501-3520). As defined in 5 CFR 1320.3(c), “collection of information” comprises reporting, recordkeeping, monitoring, posting, labeling, and other, similar actions. The title and description of the information collection, a description of those who must collect the information, and an estimate of the total annual burden follow. The burden-hour estimates cover the time for reviewing instructions, searching existing sources of data, gathering and maintaining the data needed, and completing and reviewing the collection.

Title: Ballast Water Management Reporting and Recordkeeping.

OMB Control Number: 1625-0069.

Summary of the Collection of Information: This final rule modifies the existing BWM recordkeeping requirements in 33 CFR 151.2070 and amends the ballast water report. In this final rule, the Coast Guard requires vessels with ballast tanks that operate exclusively on voyages between ports or places within a single COTP Zone to submit an annual summary report of their BWM practices for 3 years. The Coast Guard is also updating the ballast water report to include only data that are essential to understanding and analyzing BWM practices. These updates will not result in changes to current industry burden. The final rule also allows most vessels to submit ballast water reports after arrival at the port or place of destination.

Need for Information: It is essential for the Coast Guard to improve the breadth and quality of its BWM data so it can make the most informed programmatic and regulatory decisions on how to prevent the introduction of non-indigenous aquatic species in U.S. waters. Limited information is available for vessels operating exclusively between ports or places within a single COTP Zone, since most of these vessels are exempt from the reporting requirements of 33 CFR 151.2060.

Use of Information: BWM data from a segment of the industry for which the Coast Guard has limited information will improve the utility of the data provided by the currently-regulated vessel population.

Description of the Respondents: The respondents are:

(a) Owners and operators of vessels with ballast water tanks operating exclusively on voyages between ports or places within a single COTP Zone.

(b) Owners and operators of vessels currently reporting BWM activities under 33 CFR 151.2060.

Number of Respondents: The current number of respondents is 8,383. The requirements of this final rule will add 1,280 respondents from vessels with ballast water tanks operating exclusively on voyages between ports or places within a single COTP Zone. Therefore, the total number of respondents would increase by 1,280 to 9,663 (8,383 current respondents + 1,280 new respondents).

Frequency of Response: Current respondents under 33 CFR 151.2060 will continue to submit their reports upon arrival to U.S. ports. New respondents (owners and operators of vessels operating exclusively on voyages between ports or places within a single COTP Zone) will report once a year for a period of 3 years. After the 3 year period, the Coast Guard will have a base understanding of ballast water practices for these vessels, and reporting requirements will no longer be necessary.

Burden of Response: We estimate that the response would take approximately 40 minutes per report for vessels with ballast water tanks operating exclusively on voyages between ports or places within a single COTP Zone.

Estimate of Total Annual Burden: The annual burden is estimated as follows:

(a) Annual burden for new reporting requirement for vessels operating within a single COTP Zone: This rule would create a new burden of 858 hours (1,280 vessels × .67 hours) ¹⁵ for the private sector.

¹⁵ The estimation based on time required for reporting. Most information is well known by the vessel manager and does not require additional document or consultation. The questions are: Vessel name, number, identification number, type, operator, tonnage, call sign, COTP Zone of operation, number of ballast water tanks, total ballast water capacity, primary port of ballast water loading and discharge, estimated number of times ballast water is discharged and volume.

(b) Annual burden for current reporting requirements:

This final rule will result in a total annual burden increase of 858 hours due to the new requirement for vessels operating exclusively on voyages between ports or places within a single COTP Zone. We estimate the total annual cost burden to be $59,174 (non-discounted).

As required by the Paperwork Reduction Act of 1995 (44 U.S.C. 3507(d)), we will submit a copy of this final rule to the Office of Management and Budget (OMB) for its review of the collection of information.

E. Federalism

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132. Our analysis is explained below.

This rule revises the Coast Guard's BWM reporting and recordkeeping requirements promulgated under the authority of NANPCA, as amended by NISA. NANPCA, as amended by NISA, contains a “savings provision” that saves to States their authority to “adopt or enforce control measures for aquatic nuisance species, [and nothing in the Act would] diminish or affect the jurisdiction of any State over species of fish and wildlife” (16 U.S.C. 4725). This type of BWM reporting and recordkeeping is a “control measure” saved to States under the savings provision and would not be preempted unless State law makes compliance with this rule's requirements impossible or frustrates the purpose of Congress. No such State law has been identified. Additionally, the Coast Guard has long interpreted this savings provision to be a congressional mandate for a Federal-State cooperative regime in which federal preemption under NANPCA, as amended by NISA, would be unlikely.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

G. Taking of Private Property

This rule would not cause a taking of private property or otherwise have taking implications under Executive Order 12630, “Governmental Actions and Interference with Constitutionally Protected Property Rights.”

H. Civil Justice Reform

This rule meets applicable standards in sections 3(a) and 3(b)(2) of Executive Order 12988, Civil Justice Reform, to minimize litigation, eliminate ambiguity, and reduce burden.

I. Protection of Children

We have analyzed this rule under Executive Order 13045, “Protection of Children from Environmental Health Risks and Safety Risks.” This rule is not an economically significant rule and would not create an environmental risk to health or risk to safety that might disproportionately affect children.

J. Indian Tribal Governments

This rule does not have tribal implications under Executive Order 13175, “Consultation and Coordination with Indian Tribal Governments,” because it would not have a substantial direct effect on one or more Indian tribes, on the relationship between the Federal Government and Indian tribes, or on the distribution of power and responsibilities between the Federal Government and Indian tribes.

K. Energy Effects

We have analyzed this rule under Executive Order 13211, “Actions Concerning Regulations That Significantly Affect Energy Supply, Distribution, or Use.” We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

M. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. A final environmental analysis checklist supporting this determination is available in the docket where indicated under the “Addresses” section of this preamble. This rule involves regulations that are editorial and procedural, and falls under section 2.B.2, figure 2-1, paragraph (34)(a) of the Instruction.

List of Subjects in 33 CFR Part 151

Administrative practice and procedure, Ballast water management, Oil pollution, Penalties, Reporting and recordkeeping requirements, Water pollution control.

For the reasons discussed in the preamble, the Coast Guard amends 33 CFR part 151 as follows:

PART 151—VESSELS CARRYING OIL, NOXIOUS LIQUID SUBSTANCES, GARBAGE, MUNICIPAL OR COMMERCIAL WASTE, AND BALLAST WATER

Subpart C—Ballast Water Management for Control of Non-Indigenous Species in the Great Lakes and Hudson River

1. The authority citation for subpart C continues to read as follows:

Authority: 16 U.S.C. 4711; Department of Homeland Security Delegation No. 0170.1.

2. In § 151.1516, revise paragraph (a) introductory text to read as follows:

§ 151.1516 Compliance monitoring.

(a) The master of each vessel equipped with ballast tanks must provide the following information, in written form, to the Captain of the Port (COTP):

* * * * *

Subpart D—Ballast Water Management for Control of Non-Indigenous Species in Waters of the United States

3. The authority citation for subpart D continues to read as follows:

Authority: 16 U.S.C. 4711; Department of Homeland Security Delegation No. 0170.1.

4. Amend § 151.2015 as follows:

a. Revise paragraph (b);

b. Redesignate paragraph (c) as paragraph (d);

c. Add new paragraph (c);

d. Revise newly redesignated paragraphs (d)(1) and (3); and

e. Add Table 1 to § 151.2015.

The revisions and addition read as follows:

§ 151.2015 Exemptions.

* * * * *

(b) Crude oil tankers engaged in coastwise trade are exempt from the requirements of §§ 151.2025 (ballast water management (BWM) requirements), 151.2060 (reporting), and 151.2070 (recordkeeping) of this subpart.

(c) Vessels that operate exclusively on voyages between ports or places within a single COTP Zone are exempt from the requirements of §§ 151.2025 (ballast water management (BWM) requirements), and 151.2070 (recordkeeping) of this subpart.

(d) * * *

(1) Seagoing vessels that operate in more than a single COTP Zone, do not operate outside of the EEZ, and are less than or equal to 1,600 gross register tons or less than or equal to 3,000 gross tons (International Convention on Tonnage Measurement of Ships, 1969).

* * * * *

(3) Vessels that operate in more than a single COTP Zone and take on and discharge ballast water exclusively in a single COTP Zone.

Table 1 to § 151.2015—Table of 33 CFR 151.2015 Specific Exemptions for Types of Vessels
| 151.2025 (Management) | 151.2060 (Reporting) | 151.2070 (Recordkeeping)
Department of Defense or Coast Guard vessel subject to 46 U.S.C. 4713 | Exempt | Exempt | Exempt.
Vessel of the Armed Forces subject to the “Uniform National Discharge Standards for Vessels of the Armed Forces” (33 U.S.C. 1322(n)) | Exempt | Exempt | Exempt.
Crude oil tankers engaged in coastwise trade | Exempt | Exempt | Exempt.
Vessel operates exclusively on voyages between ports or places within a single COTP Zone | Exempt | Applicable | Exempt.
Seagoing vessel operates on voyages between ports or places in more than a single COTP Zone, does not operate outside of EEZ, and ≤1600 gross register tons or ≤3000 gross tons (ITC) | Exempt | Applicable | Applicable.
Non-seagoing vessel | Exempt | Applicable | Applicable (unless operating exclusively on voyages between ports or places within a single COTP Zone).
Vessel operates between ports or places in more than a single COTP Zone and takes on and discharges ballast water exclusively in a single COTP Zone | Exempt | Applicable | Applicable.

5. Amend § 151.2060 by revising paragraphs (b) and (c) and adding paragraphs (d) through (f) to read as follows:

§ 151.2060 Reporting requirements.

* * * * *

(b) Unless operating exclusively on voyages between ports or places within a single COTP Zone, the master, owner, operator, agent, or person in charge of a vessel subject to this subpart and this section must submit a ballast water report to the National Ballast Information Clearinghouse (NBIC) by electronic ballast water report format using methods specified at NBIC's Web site at http://invasions.si.edu/nbic/submit.html. The ballast water report will include the information listed in paragraph (c) of this section and must be submitted as follows:

(1) For any vessel bound for the Great Lakes from outside the EEZ. (i) Submit a ballast water report at least 24 hours before the vessel arrives in Montreal, Quebec.

(ii) Non-U.S. and non-Canadian flag vessels may complete the St. Lawrence Seaway Ballast Water Reporting Form and submit it in accordance with the applicable Seaway notice as an alternative to this requirement.

(2) For any vessel bound for the Hudson River north of the George Washington Bridge entering from outside the EEZ: Submit the ballast water report at least 24 hours before the vessel enters New York, NY.

(3) For any vessel that is equipped with ballast water tanks and bound for ports or places in the United States and not addressed in paragraphs (b)(1) and (2) of this section: Submit the ballast water report no later than 6 hours after arrival at the port or place of destination, or prior to departure from that port or place of destination, whichever is earlier.

(c) The ballast water report required by paragraph (b) of this section must include the following information:

(1) Vessel information. This includes the vessel's name, International Maritime Organization (IMO) number or other vessel identification number if an IMO number is not issued, country of registry, owner or operator, type and tonnage.

(2) Voyage information. This includes the port and date of arrival, name and contact information of the person submitting the form, last port and country of call, and next port and country of call.

(3) Ballast water information. This includes the vessel's total ballast water capacity, total number of ballast water tanks, total volume of ballast water onboard, total number of ballast water tanks in ballast, and the identification of ballast water management method used.

(4) Information on ballast water tanks that are to be discharged into the waters of the United States or to a reception facility. Include the following for each tank discharged:

(i) The numerical designation, type and capacity of the ballast tank.

(ii) The source of the ballast water. This includes date(s), location(s), and volume(s). If a tank has undergone ballast water exchange, provide the loading port of the ballast water that was discharged during the exchange.

(iii) The date(s), starting location(s), ending location(s), volume(s), and method(s) of ballast water management.

(iv) The date(s), location(s), and volume(s) of any ballast water discharged into the waters of the United States or to a reception facility.

(5) Certificate of accurate information. Include the name and title of the individual (i.e., master, owner, operator, agent, person in charge) attesting to the accuracy of the information provided and that the activities were in accordance with the ballast water management plan required by § 151.2050(g). If exceptional circumstances required deviation from the plan, the details surrounding the need for deviation and associated actions must be explained.

(d) If the information submitted in accordance with paragraph (c) of this section changes, the master, owner, operator, agent, or person in charge of the vessel must submit an amended report before the vessel departs the waters of the United States or not later than 24 hours after departure from the port or place, whichever is earlier.

(e) The master, owner, operator, agent, or person in charge of a vessel operating on voyages exclusively between ports or places within a single COTP Zone, and subject to this subpart and this section, must submit the information required by paragraph (f) of this section to NBIC by electronic Annual Ballast Water Summary Report format using methods specified at NBIC's Web site at http://invasions.si.edu/nbic/submit.html. The Annual Ballast Water Summary Report is required for a period of three years on the following schedule:

(1) Report on the vessel's ballasting practices for calendar year 2016 due no later than March 31, 2017.

(2) Report on the vessel's ballasting practices for calendar year 2017 due no later than March 31, 2018.

(3) Report on the vessel's ballasting practices for calendar year 2018 due no later than March 31, 2019.

(f) The Annual Ballast Water Summary Report will include the following information:

(1) Vessel information. This includes name, identification number, vessel type, operator, tonnage, call sign and COTP Zone of operation.

(2) Ballast information. This includes the number of ballast tanks and total ballast water capacity.

(3) Operational information. This includes the estimated number of times ballast water is discharged, estimated volume of ballast water discharged each time, primary port of ballast water loading, primary port of ballast water discharge, and certification of compliance with § 151.2050.

6. Revise § 151.2070 to read as follows:

§ 151.2070 Recordkeeping requirements.

(a) The master, owner, operator, agent, or person in charge of a vessel bound for a port or place in the United States, unless specifically exempted by § 151.2015 of this subpart, must ensure the maintenance of written or digital records that include the information required to be reported by § 151.2060 of this subpart and the sediment information in paragraph (a)(1) of this section.

(1) Discharge of sediment. If sediment was discharged within the jurisdiction of the United States, include the name and location of the facility where sediment disposal took place.

(2) Certification of accurate information. Include the master, owner, operator, agent, person in charge, or responsible officer's printed name, title, and signature attesting to the accuracy of the information provided and that the activities were in accordance with the ballast water management plan required by § 151.2050(g). If exceptional circumstances required deviation from the plan, the details surrounding the need for deviation and associated actions must be explained. The signature requirement may be satisfied by affirming the certification portion of the electronic ballast water report.

(b) The master, owner, operator, agent, or person in charge of a vessel subject to this section must retain a signed copy of this information onboard the vessel for 2 years.

(c) The recordkeeping requirements in this section may be met by maintaining a copy of the reporting form completed pursuant to § 151.2060 of this subpart, in addition to maintaining a record of the sediment information in paragraph (a)(1) of this section. These records may be stored on digital media but must be readily viewable by the Coast Guard during an inspection.

(d) The master, owner, operator, agent, or person in charge of a vessel subject to this section must retain the monitoring records required in 46 CFR 162.060-20(b) for 2 years. These records may be stored on digital media but must be readily viewable by the Coast Guard during an inspection.

Dated: November 18, 2015.
F.J. Sturm,
Acting Director of Commercial Regulations and Standards, U.S. Coast Guard.

[FR Doc. 2015-29848 Filed 11-23-15; 8:45 am]

BILLING CODE 9110-04-P